Securities and Exchange Commission

Sunshine Act Meeting

Notice is hereby given, pursuant to the provisions of the Government in the Sunshine Act, Public Law 94-409, that the Commission will host the SEC Government-Business Forum on Small Business Capital Formation on Thursday, November 17, 2016, beginning at 9:00 a.m., in the Auditorium, Room L-002.

The forum will include remarks by SEC Commissioners and a panel discussion that Commissioners may attend. The panel discussion will explore how capital formation options are working for small businesses after the implementation of the JOBS Act. This Sunshine Act notice is being issued because a majority of the Commission may attend the meeting.

For further information, please contact Brent J. Fields from the Office of the Secretary at (202) 551-5400.

Dated: November 10, 2016.
Brent J. Fields,
Secretary.

[FR Doc. 2016-27631 Filed 11-14-16; 11:15 am]

BILLING CODE 8011-01-P